COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: March 25, 2013.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 11/27/2012 (77 FR 70737-70738); 11/30/2012 (77 FR 71400-71401); 12/14/2012 (77 FR 74469-74470); 12/21/2012 (77 FR 75616); and 12/31/2012 (77 FR 77038), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 6135-01-414-8831—Battery, Non-Rechargeable, 3V, Lithium/Manganese Dioxide

NSN: 6135-01-447-0949—Battery, Non-Rechargeable, 9V, Alkaline

NSN: 6135-01-524-7621—Battery, 3.6V, A, Lithium

NSN: 6140-01-032-1326—Battery, Storage, 12V, Lead Acid, Wet Charged

NSN: 6140-01-505-1940—Battery, Storage, 12V, Lead Acid, Wet Charged

NSN: 6140-01-528-2975—Battery, Storage, 12V, Lead Acid, Wet Charged

NPA: Eastern Carolina Vocational Center, Inc., Greenville, NC

Contracting Activity: Defense Logistics Agency Land and Maritime, Columbus, OH

Coverage: C-List for 100% of the requirement of the Department of Defense, as aggregated by the Defense Logistics Agency Land and Maritime, Columbus, OH.

NSN: MR 1146—Serving Set, Stand and Bowl, 16oz

NPA: Industries for the Blind, Inc., West Allis, WI

Contracting Activity: Defense Commissary Agency, Fort Lee, VA

Coverage: C-List for the requirements of military commissaries and exchanges as aggregated by the Defense Commissary Agency.

NSN: 7510-00-NIB-1886—Tape, Vinyl Backing, Rubber Adhesive, Yellow, 36 yards

NSN: 7510-00-NIB-1891—Tape, Safety Stripe, Rubber Adhesive, Black/Yellow, 36 yards

Coverage: The NSNs listed above will be A-List for the Total Government Requirement as aggregated by the General Services Administration.

NSN: 7510-00-NIB-1890—Tape, Safety Stripe, Rubber Adhesive, Black/White, 36 yards

Coverage: The NSN listed above will be B-List for the Broad Government Requirement as aggregated by the General Services Administration.

NPA: Cincinnati Association for the Blind, Cincinnati, OH

Contracting Activity: General Services Administration, New York, NY

NSN: 7420-00-NIB-0023—Talking Calculator, 508 Compliant, 12 Digit, Portable, Desktop, Battery Operated

NPA: MidWest Enterprises for the Blind, Inc., Kalamazoo, MI

Contracting Activity: General Services Administration, New York, NY

Coverage: B-List for the Broad Government Requirement as aggregated by the General Services Administration.

NSN: 7105-00-NIB-0064—Round Table, Folding Legs, 60″ x 29″

NSN: 7105-00-NIB-0065—Bi-fold Table, 60″ x 30″

NSN: 7105-00-NIB-0066—Personal Table, 30″ x 20″

NSN: 7105-00-NIB-0067—Folding Table with Heavy Duty Legs, 72″ x 30″

NSN: 7105-00-NIB-0068—Picnic Table, 72″ x 30″

NSN: 7105-00-NIB-0069—Utility Table, 60″ x 18″

NSN: 7105-00-NIB-0070—Utility Table, 72″ x 18″

NPA: MidWest Enterprises for the Blind, Inc., Kalamazoo, MI

Contracting Activity: General Services Administration, Arlington, VA

Coverage: B-List for the Broad Government Requirement as aggregated by the General Services Administration.

NSN: MR 10618—Stickers, Easter Themed, Assorted, 200ct

NPA: Winston-Salem Industries for the Blind, Inc., Winston-Salem, NC

Contracting Activity: Defense Commissary Agency, Fort Lee, VA

Coverage: C-List for the requirements of military commissaries and exchanges as aggregated by the Defense Commissary Agency.

Services

Service Type/Location: E911 Dispatch Service, Directorate of Emergency Services (DES) Emergency Call Center & Military Police Station, 6940 Marchant Street, Building 216, Fort Benning, GA.

NPA: Bobby Dodd Institute, Inc., Atlanta, GA.

Contracting Activity: Dept of the Army, W6QM MICC—Ft Benning, Ft Benning, GA.

Service Type/Location: Water System Hydrant Maintenance Service, Joint Base Lewis-McChord, WA.

NPA: Skookum Educational Programs, Bremerton, WA.

Contracting Activity: Dept of the Army, W6QM MICC—JB Lewis—MC Chord, Fort Lewis, WA.

Service Type/Location: Grounds Maintenance Service, U.S. Coast Guard Facility, 9640 Clinton Drive, Houston, TX.

NPA: On Our Own Services, Inc., Houston, TX.

Contracting Activity: Dept of Homeland Security, U.S. Coast Guard, Base New Orleans, New Orleans, LA.

Service Type/Location: Grounds Maintenance Service, Joint Interagency Task Force South (JIATFS), Truman Annex, Key West, FL.

NPA: Goodwill Industries of South Florida, Inc., Miami, FL.

Contracting Activity: Dept of the Army, W453 JIATFS, Key West, FL.

Service Type/Location: Hospital Housekeeping Service, Weed Army Community Hospital (WACH), 2nd Street, Building 166, Fort Irwin, CA.

NPA: Job Options, Inc., San Diego, CA.

Contracting Activity: Dept of the Army, W40M USA MEDCOM HCAA, Fort Sam Houston, TX.

Barry S. Lineback,
Director, Business Operations.

[FR Doc. 2013-04088 Filed 2-21-13; 8:45 am]

BILLING CODE 6353-01-P